DEPARTMENT OF TRANSPORTATION

Federal Aviation Administration

14 CFR Part 97

[Docket No. 30388; Amdt. No. 3076]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of changes occurring in the National Airspace System, such as the commissioning of new navigational facilities, addition of new obstacles, or changes in air traffic requirements. These changes are designed to provide safe and efficient use of the navigable airspace and to promote safe flight operations under instrument flight rules at the affected airports.

DATES: This rule is effective September 30, 2003. The compliance date for each SIAP is specified in the amendatory provisions.

The incorporation by reference of certain publications listed in the regulations is approved by the Director of the Federal Register as of September 30, 2003.

ADDRESSES: Availability of matter incorporated by reference in the amendment is as follows:

For Examination—

1. FAA Rules Docket, FAA Headquarters Building, 800 Independence Avenue, SW., Washington, DC 20591;

2. The FAA Regional Office of region in which affected airport is located; or

3. The Flight Inspection Area Office which originated the SIAP.

4.The Office of the Federal Register, 800 North Capitol Street, NW., Suite 700, Washington, DC.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: PO Box 25082 Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description on each SIAP is contained in the appropriate FAA Form 8260 and the National Flight Data Center (FDC)/Permanent (P) Notices to Airmen (NOTAM) which are incorporated by reference in the amendment under 5 U.S.C. 552(a), 1 CFR part 51, and § 97.20 of the Federal Aviation's Regulations (FAR). Materials incorporated by reference are available for examination or purchase as stated above.

The large number of SIAPs, their complex nature, and the need for a special format make their verbatim publication in the Federal Register expensive and impractical. Further, airmen do not use the regulatory text of the SIAPs, but refer to their graphic depiction of charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 of the Federal Aviation Regulations (14 CFR part 97) establishes, amends, suspends, or revokes SIAPs. For safety and timeliness of change considerations, this amendment incorporates only specific changes contained in the content of the following FDC/P NOTAMs for each SIAP. The SIAP information in some previously designated FDC/Temporary (FDC/T) NOTAMs is of such duration as to be permanent. With conversion to FDC/P NOTAMs, the respective FDC/T NOTAMs have been canceled.

The FDC/P NOTAMs for the SIAPs contained in this amendment are based on the criteria contained in the U.S. Standard for Terminal Instrument Procedures (TERPS). In developing these chart changes to SIAPs by FDC/P NOTAMs, the TERPS criteria were applied to only these specific conditions existing at the affected airports. All SIAP amendments in this rule have been previously issued by the FAA in a National Flight Data Center (FDC) Notice to Airmen (NOTAM) as an emergency action of immediate flight safety relating directly to published aeronautical charts. The circumstances which created the need for all these SIAP amendments requires making them effective in less than 30 days.

Further, the SIAPs contained in this amendment are based on the criteria contained in the TERPS. Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC, on September 12, 2003.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

§§ 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS/DME, MLS/RNAV; § 97.31 RADAR SIAPs; § 97.33 RNAV SIAPs; and § 97.35 COPTER SIAPs, Identified as follows:

Effective Upon Publication
FDC Date | State | City | Airport | FDC Number | Subject
09/05/03 | AK | Anchorage | Ted Stevens Anchorage Intl | 3/8586 | MLS Rwy 6L, Orig-A
09/05/03 | AK | Anchorage | Ted Stevens Anchorage Intl | 3/8587 | ILS Rwy 6R (CAT I, II, III) Amdt 11B
09/05/03 | AK | Anchorage | Ted Stevens Anchorage Intl | 3/8588 | ILS Rwy 6L, Orig
09/05/03 | AK | Bethel | Bethel | 3/8582 | ILS/DME Rwy 18, Amdt 5
09/05/03 | AK | Bethel | Bethel | 3/8583 | NDB Rwy 18, Amdt 8B
09/05/03 | AK | Bethel | Bethel | 3/8584 | VOR/DME Rwy 18, Amdt 1
09/05/03 | AK | Bethel | Bethel | 3/8585 | RNAV (GPS)-A, Orig
09/05/03 | AK | Port Heiden | Port Heiden | 3/8645 | NDB/DME Rwy 5, Amdt 2A
09/05/03 | AK | Port Heiden | Port Heiden | 3/8646 | NDB/DME Rwy 13, Amdt 2
09/05/03 | AK | Port Heiden | Port Heiden | 3/8647 | NDB Rwy 5, Amdt 5
09/05/03 | AK | Port Heiden | Port Heiden | 3/8648 | NDB Rwy 13, Amdt 5
09/05/03 | AK | Port Heiden | Port Heiden | 3/8649 | GPS Rwy 5, Orig
09/05/03 | AK | Port Heiden | Port Heiden | 3/8650 | GPS Rwy 13, Orig
09/05/03 | AK | Savoonga | Savoonga | 3/8602 | GPS Rwy 5, Orig
09/05/03 | AK | Soldotna | Soldotna | 3/8603 | VOR-A, Amdt 6
09/05/03 | AK | Soldotna | Soldotna | 3/8604 | GPS Rwy 7, Orig
09/05/03 | AK | Soldotna | Soldotna | 3/8605 | NDB/DME Rwy 7, Amdt 1
09/05/03 | AK | Talkeetna | Talkeetna | 3/8601 | NDB Rwy 36, Amdt 1B
09/05/03 | AZ | Nogales | Nogales | 3/8437 | VOR/DME or GPS-B, Amdt 2
09/05/03 | AZ | Nogales | Nogales | 3/8438 | NDB or GPS-C, Amdt 2
09/05/03 | AZ | Nogales | Nogales | 3/8445 | VOR or GPS-A, Amdt 3
09/05/03 | AZ | St. Johns | St. Johns Industrial Airpark | 3/8440 | VOR/DME or GPS-A Amdt 1A
09/05/03 | CA | Santa Monica | Santa Monica Muni | 3/8465 | VOR or GPS-A, Amdt 10A
09/05/03 | CA | San Francisco | San Francisco | 3/8254 | VOR or GPS-B, Amdt 5B
09/05/03 | IL | Chicago | Du Page | 3/8569 | ILS Rwy 2L, Amdt 1A
09/05/03 | IL | Jacksonville | Jacksonville Muni | 3/8570 | VOR or GPS Rwy 13, Orig
09/05/03 | IN | Indianapolis | Eagle Creek Airpark | 3/8431 | LOC Rwy 21, Amdt 3A
09/05/03 | IN | Indianapolis | Eagle Creek Airpark | 3/8439 | NDB or GPS Rwy 21, Amdt 3A
09/05/03 | IN | Lafayette | Lafayette/Purdue University | 3/8428 | VOR or GPS-A, Amdt 25
09/05/03 | IN | Muncie | Delaware County—Johnson Field | 3/8434 | VOR or GPS Rwy 14, Amdt 16
09/05/03 | MI | Clare | Clare Muni | 3/8457 | VOR or GPS-A, Amdt 1B
09/05/03 | MI | Mount Pleasant | Mount Pleasant Muni | 3/8459 | VOR or GPS Rwy 27, Orig A
09/05/03 | MI | Saginaw | Saginaw/MBS Intl | 3/8544 | ILS Rwy 23, Amdt 4
09/05/03 | MI | Saginaw | Saginaw County H.W. BROWNE | 3/8458 | VOR/DME or GPS-A, Amdt 3A
09/05/03 | MN | Redwood Falls | Redwood Falls Muni | 3/8498 | VOR/DME RNAV Rwy 30, Amdt 1
09/05/03 | MN | Redwood Falls | Redwood Falls Muni | 3/8499 | VOR or GPS-A, Amdt 4
09/05/03 | MN | Redwood Falls | Redwood Falls Muni | 3/8500 | GPS Rwy 30, Orig
09/05/03 | ND | Bismarck | Bismarck | 3/8493 | GPS Rwy 31, Amdt 30B
09/05/03 | ND | Bismarck | Bismarck | 3/8494 | VOR or GPS-A, Amdt 19A
09/05/03 | ND | Minot | Minot Intl | 3/8396 | VOR or GPS Rwy 8, Amdt 10A
09/05/03 | ND | Minot | Minot Intl | 3/8397 | VOR or GPS Rwy 26, Amdt 12
09/05/03 | OH | Mansfield | Mansfield Lahm Regional | 3/8531 | ILS Rwy 32, Amdt 15B
09/05/03 | OH | Mansfield | Mansfield Lahm Regional | 3/8788 | VOR or GPS Rwy 32, Amdt 6B
09/05/03 | SD | Huron | Huron Regional | 3/8233 | ILS Rwy 12, Amdt 9A
09/05/03 | SD | Huron | Huron Regional | 3/8234 | VOR or GPS Rwy 12, Amdt 21A
09/05/03 | SD | Huron | Huron Regional | 3/8235 | NDB Rwy 12, Amdt 20B
09/05/03 | SD | Sioux Falls | Joe Foss Field | 3/8473 | RNAV (GPS) Rwy 3, Orig
09/05/03 | SD | Sioux Falls | Joe Foss Field | 3/8474 | RNAV (GPS) Rwy 15, Orig
09/05/03 | SD | Sioux Falls | Joe Foss Field | 3/8475 | RNAV (GPS) Rwy 21, Orig
09/05/03 | SD | Sioux Falls | Joe Foss Field | 3/8476 | RNAV (GPS) Rwy 33, Orig
09/05/03 | SD | Sioux Falls | Joe Foss Field | 3/8477 | RNAV (GPS) Rwy 9, Orig
09/05/03 | SD | Sioux Falls | Joe Foss Field | 3/8486 | NDB Rwy 3, Amdt 24A
09/05/03 | SD | Sioux Falls | Joe Foss Field | 3/8488 | VOR or Tacan Rwy 15, Amdt 21
09/05/03 | WI | Boscobel | Boscobel | 3/8608 | VOR/DME or GPS-A, Amdt 3
09/05/03 | WI | Oshkosh | Wittman Regional | 3/8552 | RNAV (GPS) Rwy 36, Amdt 1
09/05/03 | WI | Platteville | Platteville Muni | 3/8610 | VOR/DME RNAV or GPS Rwy 25, Amdt 6
09/05/03 | WI | Watertown | Watertown Muni | 3/8636 | VOR/DME RNAV or GPS Rwy 5, Amdt 3A
09/05/03 | WI | Watertown | Watertown Muni | 3/8637 | NDB or GPS Rwy 23, Amdt 1A
09/05/03 | WI | Wisconsin Rapids | Alexander Field | 3/8635 | GPS Rwy 20, Orig
09/05/03 | GA | Albany | Southwest GA Regional | 3/8556 | LOC BC Rwy 22, Amdt 7
09/04/03 | GA | Alberton | Elbert County-Patz Field | 3/8354 | VOR/DME or GPS Rwy 10, Amdt 2C
09/04/03 | GA | Augusta | Augusta Regional at Bush Field | 3/8353 | NDB or GPS Rwy 35, Amdt 28
09/04/03 | GA | Augusta | Augusta Regional at Bush Field | 3/8352 | ILS Rwy 35, Amdt 26
09/04/03 | GA | Augusta | Daniel Field | 3/8351 | RADAR-1, Amdt 7
09/04/03 | GA | Winder | Winder-Barrow | 3/8350 | VOR/DME RNAV or GPS Rwy 23, Orig-B
09/05/03 | GA | Plains | Peterson Field | 3/8292 | VOR/DME or GPS-B, Amdt 1
09/05/03 | GA | Jesup | Jesup-Wayne County | 3/8291 | NDB or GPS Rwy 28, Amdt 2A
09/05/03 | GA | Jesup | Jesup-Wayne County | 3/8290 | NDB or GPS Rwy 10, Amdt 1A
09/05/03 | NC | Kenansville | Duplin County | 3/8001 | GPS Rwy 4, Orig-A
09/05/03 | NC | Kenansville | Duplin County | 3/8000 | GPS Rwy 22, Orig-A
09/05/03 | NC | Kenansville | Duplin County | 3/7999 | LOC Rwy 22, Orig
09/05/03 | NC | Kenansville | Duplin County | 3/7998 | NDB Rwy 22, Orig
09/05/03 | TN | Knoxville | Knoxville Downtown Island | 3/8219 | VOR/DME or GPS-B, Amdt 6
09/05/03 | NY | Utica | Oneida County | 3/8620 | NDB or GPS Rwy 15, Amdt 9C
09/05/03 | NY | Utica | Oneida County | 3/8618 | ILS Rwy 15, Amdt 3C
09/05/03 | NY | Endicott | Tri-Cities | 3/8616 | VOR or GPS-A, Amdt 4
09/05/03 | NY | Binghamton | Greater Binghamton/Edwin A. Link Field | 3/8529 | VOR or GPS Rwy 10, Amdt 6A
09/05/03 | NY | Binghamton | Greater Binghamton/Edwin A. Link Field | 3/8528 | ILS Rwy 16, Amdt 6B
09/04/03 | NY | Glens Falls | Floyd Bennett Memorial | 3/8047 | RNAV (GPS) Rwy 19, Orig
09/05/03 | NJ | Manville | Central Jersey Regional | 3/8564 | GPS Rwy 7, Orig
09/04/03 | CO | Fort Collins-(Loveland) | Fort Collins-Loveland Muni | 3/8449 | NDB Rwy 33, Amdt 4A
09/04/03 | CO | Fort Collins (Loveland) | Fort Collins Loveland Muni | 3/8448 | ILS Rwy 33, Amdt 5B
09/02/03 | UT | St. George | St. George Muni | 3/8244 | VOR/DME Rwy 34, Amdt 3
09/02/03 | UT | Richfield | Richfield Muni | 3/8242 | RNAV (GPS) Rwy 19, Orig
09/02/03 | WY | Worland | Worland Muni | 3/8213 | VOR or GPS Rwy 16, Amdt 5A
08/29/03 | TX | Dallas | Dallas-Love Field | 3/8113 | ILS Rwy 13L, Amdt 31A
08/29/03 | TX | Dallas | Dallas-Love Field | 3/8114 | ILS Rwy 13R, Amdt 4C
08/29/03 | TX | Dallas | Dallas-Love Field | 3/8115 | ILS Rwy 31L, Amdt 19D
08/29/03 | TX | Dallas | Dallas-Love Field | 3/8116 | ILS Rwy 31R, Amdt 3C
08/29/03 | TX | McKinney | McKinney Muni | 3/8121 | ILS Rwy 17, Amdt 2
08/29/03 | TX | El Paso | West Texas | 3/8203 | VOR/DME or GPS-A, Amdt 4
09/08/03 | WA | Seattle | Seattle-Tacoma INTL | 3/8686 | RNAV (GPS) Rwy 34R, Orig-A
09/08/03 | WA | Seattle | Seattle-Tacoma INTL | 3/8681 | RNAV (GPS) Rwy 16L, Orig-A
09/08/03 | WA | Seattle | Seattle-Tacoma INTL | 3/8691 | ILS Rwy 34R, Orig-C
09/08/03 | ID | Coeur D'Alene | Coeur D'Alene Air Terminal | 3/8643 | VOR or GPS-A, Orig-A
09/08/03 | WA | Seattle | Seattle-Tacoma INTL | 3/8680 | ILS Rwy 16L, Amdt 1D
09/08/03 | WA | Seattle | Seattle-Tacoma INTL | 3/8682 | VOR Rwy 16L/R Amdt 13
09/08/03 | WA | Seattle | Seattle-Tacoma INTL | 3/8683 | ILS Rwy 16R (CAT I,II,III), Amdt 12C
09/08/03 | WA | Seattle | Seattle-Tacoma INTL | 3/8684 | RNAV (GPS) Rwy 16R, Orig-A
09/08/03 | WA | Seattle | Seattle-Tacoma INTL | 3/8685 | RNAV (GPS) Rwy 34L, Orig-A
09/08/03 | WA | Seattle | Seattle-Tacoma INTL | 3/8687 | NDB Rwy 16R, Amdt 1
09/08/03 | WA | Seattle | Seattle-Tacoma INTL | 3/8688 | VOR Rwy 34L/R, Amdt 9
09/08/03 | WA | Seattle | Seattle-Tacoma INTL | 3/8689 | NDB Rwy 34R, Amdt 8
09/08/03 | WA | Seattle | Seattle-Tacoma INTL | 3/8690 | ILS Rwy 34L, Orig-B
09/08/03 | CO | Denver | Centennial | 3/8660 | GPS Rwy 35R, Orig
09/08/03 | CO | Denver | Centennial | 3/8659 | GPS Rwy 28, Orig
09/08/03 | CO | Denver | Centennial | 3/8658 | VOR/DME RNAV Rwy 28, Amdt 1A
09/08/03 | CO | Denver | Centennial | 3/8656 | ILS Rwy 35R, Amdt 8
09/08/03 | CO | Denver | Centennial | 3/8655 | NDB Rwy 35R, Amdt 10
09/08/03 | ID | Twin Falls | Joslin Field-Magic Valley Regional | 3/8641 | NDB or GPS Rwy 25, Amdt 5A
09/08/03 | AK | Delta Junction/Fort Greely | Allen AAF | 3/8763 | VOR Rwy 18, Orig
09/08/03 | AK | Delta Junction/Fort Greely | Allen AAF | 3/8764 | GPS Rwy 18, Amdt 1
09/08/03 | AK | Delta Junction/Fort Greely | Allen AAF | 3/8765 | NDB-A, Amdt 1
09/08/03 | AK | Delta Junction/Fort Greely | Allen AAF | 3/8766 | VOR/DME or TACAN Rwy 18, Amdt 1
09/08/03 | AK | Nome | Nome | 3/8810 | NDB Rwy 27, Amdt 1A
09/08/03 | CA | Burbank | Burbank-Glendale-Pasadena | 3/8817 | VOR Rwy 8, Amdt 10C
09/08/03 | CA | Burbank | Burbank-Glendale-Pasadena | 3/8819 | ILS Rwy 8, Amdt 35B
09/08/03 | CA | Burbank | Burbank-Glendale-Pasedena | 3/8820 | RNAV (GPS) Rwy 8, Orig
09/08/03 | CA | Burbank | Burbank-Glendale-Pasadena | 3/8821 | LOC Rwy 8, Amdt 2B
09/08/03 | CA | Burbank | Burbank-Glendale-Pasadena | 3/8822 | NDB Rwy 8, Amdt 2B
09/02/03 | TX | Levelland | Levelland Muni | 3/8239 | NDB Rwy 17, Amdt 2A
09/02/03 | TX | Levelland | Levelland Muni | 3/8240 | NDB Rwy 35, Amdt 1B
09/02/03 | TX | Levelland | Levelland Muni | 3/8241 | GPS Rwy 35, Orig
09/02/03 | MO | Chillicothe | Chillicothe Muni | 3/8257 | NDB or GPS Rwy 14, Amdt 7
09/0/03 | OK | Mangum | Scott Field | 3/8260 | RNAV (GPS) Rwy 17, Orig
08/30/03 | MO | Cassville | Cassville Muni | 3/8262 | VOR or GPS Rwy 8, Amdt 1A
09/02/03 | MO | Camdenton | Camdenton Memorial | 3/8263 | VOR or GPS-A, Amdt 3
09/02/03 | TX | Levelland | Levelland Muni | 3/8264 | GPS Rwy 17, Orig
09/04/03 | MA | Beverly | Beverly Muni | 3/8402 | GPS Rwy 16, Orig-A
09/04/03 | ME | Augusta | Augusta State | 3/8403 | GPS Rwy 35, Orig
09/04/03 | ME | Houlton | Houlton INTL | 3/8404 | GPS-A, Orig
09/04/03 | ME | Old Town | Dewitt Field Old Town Muni | 3/8405 | NDB or GPS Rwy 22, Amdt 5
09/04/03 | CT | Oxford | Waterbury-Oxford | 3/8406 | GPS Rwy 36, Orig-A
09/04/03 | ME | Augusta | Augusta State | 3/8407 | GPS Rwy 8, Orig
09/04/03 | MA | Stow | Minute Man Airfield | 3/8408 | NDB or GPS-A, Amdt 7B
09/04/03 | MA | Nantucket | Nantucket Memorial | 3/8409 | VOR or GPS Rwy 24, Amdt 13A
09/04/03 | MA | Nantucket | Nantucket Memorial | 3/8410 | GPS Rwy 33, Orig-B
09/04/03 | MA | Chatham | Chatham Muni | 3/8411 | NDB or GPS-A, Orig-A
09/04/03 | MA | Plymouth | Plymouth Muni | 3/8412 | GPS Rwy 6, Amdt 2A
09/04/03 | MA | Taunton | Taunton Muni | 3/8413 | NDB or GPS Rwy 30, Amdt 4A
09/04/03 | ME | Auburn-Lewiston | Auburn-Lewiston Muni | 3/8420 | NDB or GPS Rwy 4, Amdt 10A
09/05/03 | SD | Winner | Bob Wiley Field | 3/8205 | VOR or GPS-A, Amdt 6A
09/04/03 | MA | Orange | Orange Muni | 3/8422 | NDB or GPS-B, Amdt 4B
09/04/03 | MA | Orange | Orange Muni | 3/8423 | VOR or GPS-A, Amdt 6
09/04/03 | TX | Greenville | Majors | 3/8533 | NDB or GPS Rwy 35, Amdt 1B
09/05/03 | TX | Mount Pleasant | Mount Pleasant Muni | 3/8546 | RNAV (GPS) Rwy 17, Orig-B
09/05/03 | TX | Mount Pleasant | Mount Pleasant Muni | 3/8547 | RNAV (GPS) Rwy 35, Orig-A
09/05/03 | MO | Washington | Washington Memorial | 3/8574 | VOR Rwy 16, Amdt 2
09/05/03 | MA | Vineyard Haven | Marthas Vineyard | 3/8627 | VOR or GPS Rwy 6, Orig-D
09/05/03 | MA | Orange | Orange Muni | 3/8628 | GPS Rwy 32, Orig-B
09/05/03 | SD | Winner | Bob Wiley Field | 3/8205 | VOR or GPS-A, Amdt 6A
09/05/03 | MA | Vineyard Haven | Marthas Vineyard | 3/8630 | VOR or GPS Rwy 24, Orig-B
09/05/03 | NH | Berlin | Berlin Muni | 3/8631 | GPS Rwy 18, Orig
09/03/03 | LA | Baton Rouge | Baton Rouge Metropolitan, Ryan Field | 3/8300 | RADAR-1, Amdt 10A
09/03/03 | LA | Baton Rouge | Baton Rouge Metropolitan, Ryan Field | 3/8301 | ILS Rwy 13, Amdt 27
09/03/03 | LA | Baton Rouge | Baton Rouge Metropolitan, Ryan Field | 3/8302 | ILS Rwy 22R, Amdt 9A
09/03/03 | LA | Baton Rouge | Baton Rouge Metropolitan, Ryan Field | 3/8303 | LOC BC Rwy 4L, Amdt 6C
09/03/03 | LA | Baton Rouge | Baton Rouge Metropolitan, Ryan Field | 3/8304 | VOR/DME Rwy 22R, Amdt 8D
09/03/03 | LA | Baton Rouge | Baton Rouge Metropolitan, Ryan Field | 3/8305 | NDB Rwy 31, Amdt 2
09/03/03 | LA | Lake Providence | Byerley | 3/8306 | NDB Rwy 17, Amdt 1
09/03/03 | LA | Lake Providence | Byerley | 3/8307 | GPS Rwy 17, Orig
09/05/03 | VT | Rutland | Rutland State | 3/8632 | GPS Rwy 19, Amdt 2A
09/05/03 | MA | Vineyard Haven | Marthas Vineyard | 3/8633 | ILS Rwy 24, Orig-B
09/05/03 | TX | Granbury | Granbury Muni | 3/8667 | VOR/DME-A, Orig-A
09/05/03 | TX | Granbury | Granbury Muni | 3/8668 | GPS Rwy 14, Orig
09/08/03 | MA | Hyannis | Barnstable Muni-Boardman/Polando Field | 3/8768 | VOR or GPS Rwy 6, Amdt 7C
09/08/03 | MA | Hyannis | Barnstable Muni-Boardman/Polando Field | 3/8770 | RNAV (GPS) Rwy 24, Orig
09/08/03 | NE | Lincoln | Lincoln Muni | 3/8801 | ILS Rwy 17R, Amdt 6B
09/08/03 | NE | Lincoln | Lincoln Muni | 3/8802 | ILS Rwy 35L, Amdt 11B
09/08/03 | NE | Lincoln | Lincoln Muni | 3/8803 | NDB or GPS Rwy 35L, Amdt 8B
09/08/03 | NE | Lincoln | Lincoln Muni | 3/8804 | VOR or GPS Rwy 17L, Amdt 6C
09/08/03 | NE | Lincoln | Lincoln Muni | 3/8805 | VOR or GPS Rwy 17R, Amdt 11B
09/08/03 | NE | North Platte | North Platte Regional Airport, Lee Bird Field | 3/8806 | VOR or GPS Rwy 35, Amdt 17B
09/02/03 | FL | Marathon | Marathon/The Florida Keys Marathon | 3/8218 | NDB or GPS Rwy 7, Amdt 3
09/05/03 | FL | Fort Pierce | St. Lucie County INTL | 3/8558 | ILS Rwy 9, Amdt 1A
09/09/03 | IL | Chicago | Chicago-O'-Hare INTL | 3/8875 | RNAV (GPS) Y Rwy 22R, Orig-A
09/09/03 | MI | Grand Rapids | Grand Rapids/Gerald R. Ford INTL | 3/8871 | ILS Rwy 8R, Amdt 5D
09/09/03 | MI | Grand Rapids | Grand Rapids/Gerald R. Ford INTL | 3/8872 | ILS Rwy 26L, Amdt 20A
09/05/03 | SD | Sioux Falls | Joe Foss Field | 3/8478 | RNAV (GPS) Rwy 27, Orig

[FR Doc. 03-24066 Filed 9-29-03; 8:45 am]

BILLING CODE 4910-13-P